DEPARTMENT OF THE INTERIOR

Bureau of Land Management

[WO-350-1430-ER-24 1A; OMB Control Number 1004-0189]

Information Collection Submitted to the Office of Management and Budget Under the Paperwork Reduction Act

The Bureau of Land Management (BLM) has submitted the proposed collection of information listed below to the Office of Management and Budget (OMB) for approval under the provisions of the Paperwork Reduction Act (44 U.S.C. 3501 et seq.). On June 25, 2004, the BLM published a notice in the Federal Register (69 FR 35673) requesting comments on this proposed collection. The comment period ended on August 24, 2004. The BLM received no comments. You may obtain copies of the proposed collection of information by contacting the BLM Information Collection Clearance Officer at the telephone number listed below.

The OMB is required to respond to this request within 60 days but may respond after 30 days. For maximum consideration your comments and suggestions on the requirement should be made within 30 days directly to the Office of Management and Budget, Interior Department Desk Officer (1004-0189), at OMB-OIRA via facsimile to (202) 395-6566 or e-mail to OIRA_DOCKET@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated, electronic, mechanical, or other forms of information technology.

Title: Application for Transportation and Utility Systems and Facilities on Federal Lands (43 CFR Parts 2800 and 2880).

OMB Control Number: 1004-0189.

Bureau Form Number: SF-299.

Abstract: The Bureau of Land Management uses the information to issue rights-of-way grants to use a specific piece of the public lands for certain projects, such as roads, pipelines, transmission lines, and communication sites.

Frequency: Once.

Description of Respondents: Individuals, partnerships, corporations, associations, or other business entity and any Federal, State or local governmental entity including municipal corporations seeking to obtain a rights-of-way grant.

Estimated Completion Time: 25 hours.

Annual Responses: 8,340.

Average Application Processing Fee Per Response: $311.

Annual Burden Hours: 208,500.

Bureau Clearance Officer: Ian Senio, (202) 452-5033.

Dated: August 19, 2005.
Ian Senio,
Bureau of Land Management, Information Collection Clearance Officer.

[FR Doc. 05-21439 Filed 10-26-05; 8:45 am]

BILLING CODE 4310-84-M